DEPARTMENT OF TRANSPORTATION

Federal Transit Administration

FY 2022 Competitive Funding Opportunity: All Stations Accessibility Program

AGENCY: Federal Transit Administration (FTA), Department of Transportation (DOT).

ACTION: Notice of funding opportunity (NOFO).

SUMMARY: The Federal Transit Administration (FTA) announces the opportunity to apply for approximately $343 million in competitive grants under the fiscal year (FY) 2022 All Stations Accessibility Program (ASAP).

DATES: Complete proposals must be submitted electronically through the GRANTS.GOV “APPLY” function by 11:59 p.m. Eastern time on September 30, 2022. Prospective applicants should initiate the process by registering on the GRANTS.GOV website promptly to ensure completion of the application process before the submission deadline. Instructions for applying can be found on FTA's website at http://www.transit.dot.gov/howtoapply and in the “FIND” module of GRANTS.GOV. The funding opportunity ID is FTA-2022-009-TPM-ASAP.

FOR FURTHER INFORMATION CONTACT: For further information concerning this notice, please contact the All Stations Accessibility Program Manager, Kevin Osborn, via email at Kevin.Osborn@dot.gov, or call 202-366-7519.

SUPPLEMENTARY INFORMATION:

Table of Contents

A. Program Description

B. Federal Award Information

C. Eligibility Information

D. Application and Submission Information

E. Application Review Information

F. Federal Award Administration Information

G. Federal Awarding Agency Contacts

H. Other Information

A. Program Description

Division J of the Bipartisan Infrastructure Law (enacted as the Infrastructure Investment and Jobs Act, Pub. L. 117-58) authorizes FTA to award grants for public transportation rail station accessibility projects, for “legacy” stations, through a competitive process, as described in this notice. Legacy stations for purposes of this NOFO are defined as public transportation stations already constructed or where construction began prior to January 25, 1992, or for commuter rail stations already constructed or where construction began prior to October 7, 1991, that were not identified as key stations and remain not accessible to or usable by persons with disabilities, including wheelchair users. ASAP provides funding to States (including territories and Washington, DC) and local governmental authorities to help finance capital projects to upgrade the accessibility of legacy rail fixed guideway public transportation systems (e.g., subway, commuter rail, light rail) for persons with disabilities, including those who use wheelchairs, by increasing the number of existing stations or facilities, such as outdoor light-rail boarding and alighting areas, that are fully accessible. For purposes of this NOFO, “fully accessible” means all of the passenger-use publicly accessible areas in the station(s) or facilities for passenger use meet or exceed the standards for new construction under Title II of the Americans with Disabilities Act of 1990 (42 U.S.C. 12131 et seq.) as incorporated into Appendix A of 49 CFR part 37. Grants under this program are for (1) capital projects to repair, improve, modify, retrofit, or relocate infrastructure of stations or facilities for passenger use, including load-bearing members that are an essential part of the structural frame; or (2) for planning projects to develop or modify a plan for pursuing public transportation accessibility projects, assessments of accessibility, or assessments of planned modifications to stations or facilities for passenger use.

This funding opportunity can be found under Federal Assistance Listing 20.533.

This program supports FTA's priorities and objectives through investments that (1) renew our transit systems, (2) advance racial equity, (3) maintain and create good-paying jobs with a free and fair choice to join a union, (4) remove barriers to transit access for underserved communities, and (5) connect communities. This program will be implemented, as appropriate and consistent with law, in alignment with the priorities in Executive Order 14052, Implementation of the Infrastructure Investment and Jobs Act (86 FR 64355). In addition, this NOFO will advance the goals of the President's January 20, 2021, Executive Order 13985, Advancing Racial Equity and Support for Underserved Communities Through the Federal Government (86 FR 7009).

B. Federal Award Information

The Bipartisan Infrastructure Law appropriated $350,000,000 for FY 2022 grants. Additional funds made available prior to project selection may be allocated to eligible projects. After the administrative oversight and Office of Inspector General takedown of $7,000,000, FTA is announcing the availability of $343,000,000 for ASAP through this notice. FTA may cap the amount a single recipient or State may receive as part of the selection process.

FTA will grant pre-award authority to incur costs for selected projects beginning on the date FY 2022 project selections are announced on FTA's website. Funds are available for obligation for three fiscal years after the fiscal year in which the competitive awards are announced. Funds are available only for eligible costs incurred after the date project selections are announced. FTA intends to fund as many meritorious projects as possible.

C. Eligibility Information

1. Eligible Applicants

Eligible applicants for ASAP include designated recipients that operate or allocate funds to inaccessible pre-ADA—or “legacy”—rail fixed guideway public transportation systems, and States (including territories and Washington, DC) and local governmental entities that operate or financially support legacy rail fixed guideway public transportation systems and corresponding legacy stations/facilities. The law limits ASAP to legacy rail fixed guideway public transportation systems with stations or facilities for passenger use that are not already accessible to and usable by persons with disabilities, including wheelchair users. To be considered eligible, applicants must be able to demonstrate the requisite legal, financial, and technical capabilities to receive and administer Federal funds under this program. Assistance on this requirement is available from FTA's Regional Offices.

2. Cost Sharing or Matching

The maximum Federal share as identified in the law for an eligible project shall not exceed 80 percent of the net project cost.

Eligible sources of match include the following: state or local government revenues, cash from non-Government sources other than revenues from providing public transportation services; revenues derived from the sale of advertising and concessions; amounts received under a service agreement with a State or local social service agency or private social service organization; revenues generated from value capture financing mechanisms; funds from an undistributed cash surplus; replacement or depreciation cash fund or reserve; new capital; or in-kind contributions. Transportation development credits or in-kind match may be used for local match if identified and documented in the application.

3. Eligible Projects

Eligible projects under ASAP include (1) capital projects to repair, improve, modify, retrofit, or relocate infrastructure of stations or facilities for passenger use, including load-bearing members that are an essential part of the structural frame; or (2) for planning projects to develop or modify a plan for pursuing public transportation accessibility projects, assessments of accessibility, or assessments of planned modifications to stations or facilities for passenger use projects; or programs of projects in an eligible area. Capital projects are limited to those that, upon completion, will meet or exceed the standards for new construction under Title II of the Americans with Disabilities Act of 1990 (42 U.S.C. 12131 et seq.), as incorporated into Appendix A of 49 CFR part 37. Eligible costs are limited to project costs associated with the accessibility improvements.

Neither a capital grant nor a planning grant awarded under this program may be used to upgrade a station or facility for passenger use that is already accessible to and usable by individuals with disabilities, including individuals who use wheelchairs, consistent with the construction standards under Title II of the Americans with Disabilities Act of 1990 (ADA) (42 U.S.C. 12131 et seq.) in place at the time the station or passenger facility was originally constructed or upgraded. Only legacy stations or passenger facilities that existed prior to the ADA and were not made accessible in the intervening time are therefore eligible.

Any project of station upgrades or passenger facility that does not result in full accessibility consistent with Title II of the ADA as incorporated by appendix A of 49 CFR part 37 and usability by persons with disabilities, including wheelchair users, is not eligible under this program. Projects for maintenance or repair activities for elements of existing accessible stations or passenger facilities that are otherwise subject to the ongoing maintenance requirements under 49 CFR 37.161(a) are not eligible under this program. Maintenance and repair activities for stations altered under this program are subject to the same ongoing maintenance provision, and are similarly ineligible.

D. Application and Submission Information

1. Address To Request Application Package

Application materials may be accessed on grants.gov. Applications must be submitted electronically through GRANTS.GOV. General information for accessing and submitting applications through GRANTS.GOV can be found at www.fta.dot.gov/howtoapply along with specific instructions for the forms and attachments required for submission. A complete proposal submission for each program consists of two forms: the SF-424 Application for Federal Assistance (available at GRANTS.GOV) and the supplemental form for the FY 2022 All Stations Accessibility Program (downloaded from GRANTS.GOV or the FTA website at https://www.transit.dot.gov/notices-funding/fiscal-year-2022-all-stations-accessibility-program-notice-funding-opportunity. Please note that if an applicant is applying for both a planning and construction project they must submit two different applications via GRANTS.GOV. Failure to submit the information as requested can delay review or disqualify the application.

2. Content and Form of Application Submission

a. Proposal Submission

A complete proposal submission for each program consists of two forms: (1) the SF-424 Application for Federal Assistance; and (2) the supplemental form for the FY 2022 All Stations Accessibility Program. The supplemental form and any supporting documents must be attached to the “Attachments” section of the SF-424. The application must include responses to all sections of the SF-424 Application for Federal Assistance and the supplemental form, unless indicated as optional. The information on the supplemental form will be used to determine applicant and project eligibility for the program, and to evaluate the proposal against the selection criteria described in part E of this notice.

FTA will accept only one supplemental form per SF-424 submission. FTA encourages States and other applicants to consider submitting a single supplemental form that includes multiple activities to be evaluated as a consolidated proposal. If a State or other applicant chooses to submit separate proposals for individual consideration by FTA, each proposal must be submitted using a separate SF-424 and supplemental form. Applicants applying for both a planning and a construction project must submit two separate applications, one for each type of project.

Applicants may attach additional supporting information to the SF-424 submission, including but not limited to letters of support, project budgets, accessibility information, or excerpts from relevant planning documents. Any supporting documentation must be described and referenced by file name in the appropriate response section of the supplemental form, or it may not be reviewed.

Information such as applicant name, Federal amount requested, local match amount, description of areas served, etc. may be requested in varying degrees of detail on both the SF-424 and supplemental form. Applicants must fill in all fields unless stated otherwise on the forms. If information is copied into the supplemental form from another source, applicants should verify that pasted text is fully captured on the supplemental form and has not been truncated by the character limits built into the form. Applicants should use both the “Check Package for Errors” and the “Validate Form” validation buttons on both forms to check all required fields on the forms, and ensure that the Federal and local amounts specified are consistent. Applicants should enter their information in the supplemental form (fillable PDF) that is made available on FTA's website or through the GRANTS.GOV application package, and should attach this to the application in its original format. Applicants should not use scanned versions of the form, “print” the form to PDF, convert or create a version using another text editor, etc.

b. Application Content

The SF-424 Application for Federal Assistance and the supplemental form will prompt applicants for the required information, including:

i. Applicant name

ii. Unique Entity Identifier

iii. Key contact information (including contact name, address, email address, and phone)

iv. Congressional district(s) where project will take place

v. Project information (including title, an executive summary, and type)

vi. A detailed description of the need for the project

vii. A detailed description on how the project will support the Program's objectives

viii. Evidence that the project is consistent with local and regional planning documents

ix. Evidence that the applicant can provide the local cost share

x. A description of the technical, legal, and financial capacity of the applicant

xi. A detailed project budget

xii. An explanation of the scalability of the project

xiii. Details on the local matching funds

xiv. A detailed project timeline

xv. A system map and listing of accessible vs inaccessible stations, and which station(s) they are proposing to upgrade.

3. Unique Entity Identifier and System for Award Management (SAM)

Each applicant is required to: (1) be registered in SAM before submitting an application; (2) provide a valid unique entity identifier in its application; and (3) continue to maintain an active SAM registration with current information at all times during which the applicant has an active Federal award or an application or plan under consideration by FTA. These requirements do not apply if the applicant has an exemption approved by FTA pursuant to 2 CFR 25.110(c) or is otherwise excepted from registration requirements. FTA may not make an award until the applicant has complied with all applicable unique entity identifier and SAM requirements. If an applicant has not fully complied with the requirements by the time FTA is ready to make an award, FTA may determine that the applicant is not qualified to receive an award and use that determination as a basis for making a Federal award to another applicant.

All applicants must provide a unique entity identifier provided by SAM. Registration in SAM may take as little as 3-5 business days, but since there could be unexpected steps or delays (for example, if there is a need to obtain an Employer Identification Number), FTA recommends allowing ample time, up to several weeks, for completion of all steps. For additional information on obtaining a unique entity identifier, please visit https://www.sam.gov.

4. Submission Dates and Times

Project proposals must be submitted electronically through GRANTS.GOV by 11:59 p.m. Eastern time on September 30, 2022. GRANTS.GOV attaches a time stamp to each application at the time of submission. Proposals submitted after the deadline will only be considered under extraordinary circumstances for reasons not under the applicant's control. Mail and fax submissions will not be accepted.

Within 48 hours after submitting an electronic application, the applicant should receive an email message from GRANTS.GOV with confirmation of successful transmission to GRANTS.GOV. If a notice of failed validation or incomplete materials is received, the applicant must address the reason for the failed validation, as described in the email notice, and resubmit before the submission deadline. If making a resubmission for any reason, include all original attachments regardless of which attachments were updated and check the box on the supplemental form indicating this is a resubmission.

FTA urges applicants to submit applications at least 72 hours prior to the due date to allow time to receive the validation messages and to correct any problems that may have caused a rejection notification. GRANTS.GOV scheduled maintenance and outage times are announced on the GRANTS.GOV website. Deadlines will not be extended due to scheduled website maintenance.

Applicants are encouraged to begin the process of registration on the GRANTS.GOV site well in advance of the submission deadline. Registration is a multi-step process, which may take several weeks to complete before an application can be submitted. Registered applicants may still be required to take steps to keep their registrations up to date before submissions can be made successfully. For example, registration in SAM is renewed annually, and persons making submissions on behalf of the Authorized Organization Representative (AOR) must be authorized in GRANTS.GOV by the AOR to make submissions.

5. Funding Restrictions

Funds under this NOFO cannot be used to reimburse applicants for otherwise eligible expenses incurred prior to FTA award of a grant agreement until FTA has issued pre-award authority for selected projects. FTA expects to issue pre-award authority to incur costs for selected projects beginning on the date that project selections are announced. FTA does not provide pre-award authority for competitive funds until projects are selected, and even then, there are Federal requirements that must be met before costs are incurred. FTA will issue specific guidance to awardees regarding pre-award authority at the time of selection. For more information about FTA's policy on pre-award authority, please see the most recent Apportionment Notice on FTA's website. Refer to Section C.3., Eligible Projects, for information on activities that are allowable in this grant program. Allowable direct and indirect expenses must be consistent with the Government-wide Uniform Administrative Requirements and Cost Principles (2 CFR part 200) and FTA Circular 5010.1E. Funds may not be used to support or oppose union organizing.

6. Other Submission Requirements

All applications must be submitted via the GRANTS.GOV website. FTA does not accept applications on paper, by fax machine, email, or other means. For information on application submission requirements, please see Section D.1. of this notice, Address to Request Application.

E. Application Review Information

1. Criteria

Projects will be evaluated primarily on the responses provided in the supplemental form. Additional information may be provided to support the responses; however, any additional documentation must be directly referenced on the supplemental form, including the file name where the additional information can be found. FTA will evaluate proposals based on the criteria described in this notice.

Applicants are encouraged to identify scaled funding options in case insufficient funding is available to fund a project at the full requested amount. If an applicant indicates that a project is scalable, the applicant must provide an appropriate minimum funding amount that will fund an eligible project that achieves the objectives of the program and meets all relevant program requirements. Proposed scalable projects must still result in a station or passenger facility with full accessibility to and usability by persons with disabilities, including wheelchair users. The applicant must provide a clear explanation of how the project budget would be affected by a reduced award. FTA may award a lesser amount regardless of whether a scalable option is provided.

a. Demonstration of Need

For Station or Passenger Facility Accessibility Improvement Projects

Applicants should explain the need for the project, including supporting information that describes the lack of accessibility at, the condition, of and age of the stations or passenger facilities for passenger use to be made fully accessible. Applicants are encouraged to include a detailed project description and scope that explains how the proposed project will make all of the passenger-use publicly accessible areas in the station(s) or facilities for passenger use fully accessible in accordance with title II of the Americans with Disabilities Act of 1990 (42 U.S.C. 12131 et seq.), as incorporated into Appendix A of 49 CFR part 37. Applicants should demonstrate that this is a legacy rail station that was not already required to be made fully accessible in accordance with the ADA.

Applicants should provide information explaining whether the project (1) addresses an overall lack of accessible stations in a particular geographic area; (2) is at a major interchange point with other transportation modes; (3) serves major activity or cultural centers, such as employment or government centers, sports or entertainment venues, centers of economic activity or commerce, cultural or community centers, institutions of higher education, hospitals or other major health care facilities, or other facilities that are major trip generators; (4) is a transfer station(s) on a rail line, between rail lines, or is an end of the line station; (5) is a station or passenger facility where passenger boardings exceed average station or facility passenger boardings on the rail system and/or (6) is able to demonstrate reductions in ADA paratransit reliance through paratransit origin-to-destination pairs analysis.

For Planning Projects

Applicants should demonstrate that the proposed planning project will develop or modify a plan for pursuing public transportation accessibility projects, assessments of accessibility, or assessments of planned modifications to stations or facilities for passenger use. Applicants are encouraged to reference how the project supports local and regional prioritization of increased accessibility at their existing legacy rail fixed guideway public transportation stations or passenger facilities.

b. Demonstration of Benefits

For Station or Passenger Facility Accessibility Improvement Projects

Applicants should specifically detail how the project will increase the accessibility of legacy rail fixed guideway public transportation systems for persons with disabilities, including those who use wheelchairs, by increasing the number of existing stations or passenger facilities for passenger use that meet or exceed the standards for new construction under Title II of the Americans with Disabilities Act of 1990 (42 U.S.C. 12131 et seq.) as incorporated into Appendix A of 49 CFR part 37. See: https://www.access-board.gov/files/ada/ADAdotstandards.pdf. FTA will rate projects higher if they propose to exceed the construction standards, by providing multiple paths of travel for people with physical disabilities (including those who use wheelchairs) or technologies to improve accessibility for people with sensory or cognitive disabilities, as examples. The applicant should describe how the proposed station, stations, or facilities for passenger use were analyzed and selected to improve accessibility and usability for passengers with disabilities within the system.

For Planning Projects

Applicants must detail how the resulting planning project will advance accessibility for persons with disabilities, including wheelchair users, and result in a future capital project that will make a legacy station or facility fully accessible. Applicants should address the timeline and steps remaining after the project would be completed, before a construction project could commence to repair, improve, modify, retrofit, or relocate infrastructure of stations or facilities for passenger use.

c. Planning and Local or Regional Prioritization

Applicants must demonstrate how the proposed project is consistent with local and regional long-range planning documents and local government priorities. FTA will evaluate applications based on the extent to which the project is consistent with the transit priorities or illustrative projects identified in the metropolitan long-range plan or the investment prioritization of the transit asset management plan. Applicants may submit copies of the relevant pages of such plans to support their application. FTA will also consider letters of support from local and regional planning organizations, local government officials, public agencies, non-profit or private sector organizations, and other relevant stakeholders.

Applicants should also provide any information documenting outreach to, engagement with, and support for the project among the surrounding local disability community, such as centers for independent living, as well as other communities likely to be affected by the project. This should also include details on compliance with environmental justice and civil rights requirements, such as access for persons with limited English proficiency and for persons with disabilities. Applications will be rated higher that demonstrate how the passenger stations or facilities proposed for investment were selected from a stakeholder engagement process with local disability community members and organizations, including individuals with physical disabilities (including those who use wheelchairs), sensory disabilities, and intellectual or developmental disabilities. Letters of support may be submitted with the application that demonstrate that each station proposed for investment is supported by stakeholders in the surrounding disability community.

d. Local Financial Commitment

Applicants must identify the source of the non-Federal cost share and describe whether such funds are currently available for the project or will need to be secured if the project is selected for funding. FTA will consider the availability of the non-Federal cost share as evidence of local financial commitment to the project. Applicants should submit evidence of the availability of funds for the project, for example, by including a board resolution, letter of support from the State, a budget document highlighting the line item or section committing funds to the proposed project, or other documentation of the source of non-Federal funds.

e. Project Implementation Strategy

FTA will rate projects higher if grant funds can be obligated within 12 months of selection and the project can be implemented within a reasonable time frame. In assessing when funds can be obligated, FTA will consider whether the project qualifies for a Categorical Exclusion (CE), or whether the required environmental work has been initiated or completed for a project that requires an Environmental Assessment (EA) or Environmental Impact Statement (EIS) under the National Environmental Policy Act of 1969 (NEPA). As such, applicants should submit information describing the project's anticipated path and timeline through the environmental review process for all proposals, including whether the project qualifies for a CE. The proposal must state when grant funds can be obligated and indicate the timeframe under which the Metropolitan Transportation Improvement Program (TIP) and Statewide Transportation Improvement Program (STIP) can be amended, if necessary, to include the proposed project.

In assessing whether the proposed implementation plans are reasonable and complete, FTA will review the proposed project implementation plan, including all necessary project milestones and the overall project timeline. For projects that will require formal coordination, approvals, or permits from other agencies or project partners, the applicant must demonstrate coordination with these organizations and their support for the project, such as through letters of support.

f. Technical, Legal, and Financial Capacity

Applicants must demonstrate that they have the technical, legal, and financial capacity to undertake the project.

FTA will review relevant oversight assessments and records to determine whether there are any outstanding legal, technical, or financial issues with the applicant that would affect the outcome of the proposed project. Applicants with outstanding legal, technical, or financial compliance issues from an FTA compliance review or FTA grant-related Single Audit finding must explain how corrective actions taken will mitigate negative impacts on the proposed project.

2. Review and Selection Process

A technical evaluation committee will evaluate proposals based on the published evaluation criteria. FTA may request additional information from applicants, if necessary. Based on the review of the technical evaluation committee, the FTA Administrator will determine the final selection of projects for program funding. In determining the allocation of program funds, FTA may consider geographic diversity, diversity in the size of the transit systems receiving funding, and the applicant's receipt of other competitive awards. FTA may also consider capping the amount a single applicant may receive.

After applying the above criteria, and in support of Executive Order 14052, Implementation of the Infrastructure Investment and Jobs Act, FTA will give priority based on several considerations.

FTA will give priority consideration to applications that advance racial equity in two areas: (1) planning and policies related to racial equity and overcoming barriers to opportunity; and (2) project investments that either proactively address racial equity and barriers to opportunity, including automobile dependence as a form of barrier, or redress prior inequities and barriers to opportunity. This objective has the potential to enhance environmental stewardship and community partnerships, and reflects Executive Order 13985, Advancing Racial Equity and Support for Underserved Communities Through the Federal Government. FTA encourages the applicant to include sufficient information to evaluate how the applicant will advance racial equity and address barriers to opportunity. The applicant should describe any transportation plans or policies related to equity and barriers to opportunity they are implementing or have implemented in relation to the proposed project, along with the specific project investment details necessary for FTA to evaluate if the investments are being made either proactively to advance racial equity and address barriers to opportunity or redress prior inequities and barriers to opportunity. All project investment costs for the project that are related to racial equity and barriers to opportunity should be summarized.

FTA will also give priority consideration to projects that create good paying jobs with the free and fair choice to join a union and these strong labor protections. Applicants for capital projects should describe whether and how project delivery and implementation create good-paying jobs with the free and fair choice to join a union to the greatest extent possible, the use of demonstrated strong labor standards, practices and policies (including for direct employees, contractors, and subcontractors); distribution of workplace rights notices; the use of local and economic hiring provisions; registered apprenticeships; or other similar standards or practices; or, for capital projects over $35 million, the use of Project Labor Agreements. Applicants should describe how planned methods of project delivery and implementation (for example, use of Project Labor Agreements and/or local and economic hiring provisions, and training and placement programs for underrepresented workers) provides opportunities for all workers, including workers with disabilities and other workers underrepresented in construction jobs to be trained and placed in good-paying jobs directly related to the project.

3. Integrity and Performance Review

Prior to making an award with a total amount of Federal share greater than the simplified acquisition threshold (currently $250,000), FTA is required to review and consider any information about the applicant that is in the Federal Awardee Performance and Integrity Information Systems (FAPIIS) accessible through SAM. An applicant may review and comment on information about itself that a Federal awarding agency previously entered. FTA will consider any comments by the applicant, in addition to the other information in FAPIIS, in making a judgment about the applicant's integrity, business ethics, and record of performance under Federal awards when completing the review of risk posed by applicants as described in 2 CFR 200.206.

F. Federal Award Administration Information

1. Federal Award Notices

FTA will announce the final project selections on the FTA website. Selectees should contact their FTA Regional Offices for additional information regarding allocations for projects. At the time the project selections are announced, FTA expects to extend pre-award authority for the selected projects (see Section D.5 of this notice for more information). There is no pre-award authority for these projects before announcement.

2. Administrative and National Policy Requirements

a. Grant Requirements

If selected, awardees will apply for a grant through FTA's Transit Award Management System (TrAMS). Recipients of funding in urban areas are subject to the grant requirements of the Urbanized Area Formula Grants program (49 U.S.C. 5307), including those of FTA Circular “Urbanized Area Formula Program: Program Guidance and Application Instructions” (FTA.C.9030.1E). Recipients of funding in rural areas are subject to the grant requirements of the Formula Grants for Rural Areas Program (49 U.S.C. 5311), including those of FTA Circular “Formula Grants for Rural Areas: Program Guidance and Application Instructions” (FTA.C.9040.1G). All recipients must accept the FTA Master Agreement and follow FTA Circular “Award Management Requirements” (FTA.C.5010.1E) and the labor protections required by Federal public transportation law (49 U.S.C. 5333(b)). Technical assistance regarding these requirements is available from the relevant FTA regional office.

By submitting a grant application, the applicant assures that it will comply with all applicable Federal statutes, regulations, Executive Orders, directives, FTA circulars and other Federal administrative requirements in carrying out any project supported by the FTA grant, including the Davis-Bacon Act (40 U.S.C. 3141-3144, and 3146-3148) as supplemented by Department of Labor regulations (29 CFR part 5, “Labor Standards Provisions Applicable to Contracts Covering Federally Financed and Assisted Construction”). Further, the applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

As authorized by Section 25019 of the BIL, applicants are encouraged to implement a local or other geographical or economic hiring preference relating to the use of labor for construction of a project funded by the grant, including pre-hire agreements, subject to any applicable State and local laws, policies, and procedures.

b. Made in America

All capital procurements must comply with FTA's Buy America requirements (49 U.S.C. 5323(j)), which require that all iron, steel, and manufactured products be produced in the United States. In addition, any award must comply with the Build America, Buy America Act (BABA) (Pub. L. 117-58, sections 70901-52). BABA provides that none of the funds provided under an award made pursuant to this notice may be used for a project unless all iron, steel, manufactured products, and construction materials are produced in the United States. FTA's Buy America requirements are consistent with BABA requirements for iron, steel, and manufactured products. DOT issued a temporary public interest waiver for construction materials for a period of 180 days beginning on May 14, 2022, and expiring on November 10, 2022. The waiver can be found at https://www.transportation.gov/sites/dot.gov/files/2022-05/Temporary%20Waiver%20of%20Buy%20America%20Requirements%20for%20Construction%20Materials.pdf.

Any proposal that will require a waiver of any domestic preference standard must identify the items for which a waiver will be sought in the application. Applicants should not proceed with the expectation that waivers will be granted.

c. Civil Rights Requirements

Applications should demonstrate that the recipient has a plan for compliance with civil rights obligations and nondiscrimination laws, including Title VI of the Civil Rights Act of 1964, the Americans with Disabilities Act (ADA), and Section 504 of the Rehabilitation Act, and accompanying regulations. This should include a current Title VI program plan and a completed Community Participation Plan (alternatively called a Public Participation Plan and often part of the overall Title VI program plan), if applicable. Applicants who have not sufficiently demonstrated the conditions of compliance with civil rights requirements will be required to do so before receiving funds.

Recipients of Federal transportation funding will be required to comply fully with the DOT's regulations and guidance for the ADA and all relevant civil rights requirements. The Department's and FTA's Office of Civil Rights will work with awarded grant recipients to ensure full compliance with Federal civil rights requirements.

d. Disadvantaged Business Enterprise

Recipients of planning or capital assistance that will award prime contracts, the cumulative total of which exceeds $250,000 in FTA funds in a Federal fiscal year, must comply with the Disadvantaged Business Enterprise (DBE) program regulations (49 CFR part 26).

FTA will provide additional guidance as grants are awarded. For more information on DBE requirements, please call Monica McCallum, FTA Office of Civil Rights, at 206-220-7519, or email Monica.McCallum@dot.gov.

e. Planning

FTA encourages applicants to notify the appropriate State departments of transportation and Metropolitan Planning Organizations (MPOs) in areas likely to be served by the project funds made available under this program. Selected projects must be incorporated into the long-range plans and transportation improvement programs of States and metropolitan areas before they are eligible for FTA funding.

3. Reporting

Post-award reporting requirements include the electronic submission of Federal Financial Reports and Milestone Progress Reports in FTA's electronic grants management system. Recipients of funds made available through this NOFO are also required to regularly submit data to the National Transit Database. Recipients should include any goals, targets, and indicators referenced in their applications in the Executive Summary of the TrAMS application.

FTA is committed to making evidence-based decisions guided by the best available science and data. In accordance with the Foundations for Evidence-based Policymaking Act of 2018 (Evidence Act), FTA may use information submitted in discretionary funding applications; information in FTA's Transit Award Management System (TrAMS), including grant applications, Milestone Progress Reports (MPRs), Federal Financial Reports (FFRs); transit service, ridership and operational data submitted in FTA's National Transit Database; documentation and results of FTA oversight reviews, including triennial and state management reviews; and other publicly available sources of data to build evidence to support policy, budget, operational, regulatory, and management processes and decisions affecting FTA's grant programs.

As part of completing the annual certifications and assurances required of FTA grant recipients, a successful applicant must report on the suspension or debarment status of itself and its principals. If the award recipient's active grants, cooperative agreements, and procurement contracts from all Federal awarding agencies exceeds $10,000,000 for any period of time during the period of performance of an award made pursuant to this notice, the recipient must comply with the Recipient Integrity and Performance Matters reporting requirements described in Appendix XII to 2 CFR part 200.

G. Federal Awarding Agency Contacts

For further information concerning this notice, please contact the ASAP Program Manager, Kevin Osborn via email at Kevin.Osborn@dot.gov, or by phone at 202-366-7519. A TDD is available for individuals who are deaf or hard of hearing at 800-877-8339. In addition, FTA will post answers to questions and requests for clarifications on FTA's ASAP homepage at: https://www.transit.dot.gov/grants/all-stations-accessibility-program. To ensure applicants receive accurate information about eligibility or the program, applicants are encouraged to contact FTA with questions directly, rather than through intermediaries or third parties.

For technical issues with GRANTS.GOV, please contact GRANTS.GOV by phone at 1-800-518-4726 or by email at support@grants.gov. Contact information for FTA's regional offices can be found on FTA's website at https://www.transit.dot.gov/about/regional-offices/regional-offices.

H. Other Information

User-friendly information and resources regarding DOT's discretionary grant programs relevant to rural applicants can be found on the Rural Opportunities to Use Transportation for Economic Success (ROUTES) website at https://www.transportation.gov/rural.

This program is not subject to Executive Order 12372, “Intergovernmental Review of Federal Programs.”

Nuria I. Fernandez,
Administrator.

[FR Doc. 2022-16094 Filed 7-26-22; 8:45 am]

BILLING CODE 4910-57-P